DEPARTMENT OF EDUCATION

[Catalog of Federal Domestic Assistance (CFDA) Numbers: 84.038, 84.033, and 84.007]

Federal Perkins Loan, Federal Work-Study, and Federal Supplemental Educational Opportunity Grant Programs; 2018-2019 Award Year Deadline Dates; Correction

AGENCY: Federal Student Aid, Department of Education.

ACTION: Notice; correction.

SUMMARY: On January 3, 2018, we published in the Federal Register (83 FR 356) a notice announcing the 2018-2019 award year deadline dates for the submission of requests and documents from postsecondary institutions for the Federal Perkins Loan, Federal Work-Study (FWS), and Federal Supplemental Educational Opportunity Grant (FSEOG) programs (collectively, the “campus-based programs”) (January 3, 2018 Notice). This notice corrects the zip code for submitting requests and documents by overnight delivery from 14304 to 14302. All other information in the January 3, 2018 Notice remains the same.

DATES: The deadline dates for each program are specified in the chart in the Deadline Dates section of the January 3, 2018 notice.

FOR FURTHER INFORMATION CONTACT: Stephanie Gross, Manager, Campus-Based Programs, U.S. Department of Education, Federal Student Aid, 830 First Street NE, Union Center Plaza, Room 64F2, Washington, DC 20202-5453. Telephone: (202) 377-4363 or via email: stephanie.gross@ed.gov.

If you use a telecommunications device for the deaf (TDD) or a text telephone (TTY), call the Federal Relay Service, toll free, at 1-800-877-8339.

SUPPLEMENTARY INFORMATION:

Correction

In FR Doc. No. 2017-28425, in the Federal Register of January 3, 2018 (83 FR 356), we make the following correction:

On page 357, in the middle column under the heading How is it submitted?, in the sentence “For overnight delivery mail to: FISAP Administrator, 2429 Military Road, Suite 200, Niagara Falls, NY 14304,” we remove “14304” and replace it with “14302”.

Program Authority: Higher Education Act of 1965, as amended.

Accessible Format: Individuals with disabilities can obtain this document and a copy of the application package in an accessible format (e.g., braille, large print, audiotape, or compact disc) on request to the program contact person listed under FOR FURTHER INFORMATION CONTACT.

Electronic Access to This Document: The official version of this document is the document published in the Federal Register. Free internet access to the official edition of the Federal Register and the Code of Federal Regulations is available via the Federal Digital System at: www.gpo.gov/fdsys. At this site you can view this document, as well as all other documents of this Department published in the Federal Register, in text or Portable Document Format (PDF). To use PDF you must have Adobe Acrobat Reader, which is available free at the site.

You may also access documents of the Department published in the Federal Register by using the article search feature at: www.federalregister.gov. Specifically, through the advanced search feature at this site, you can limit your search to documents published by the Department.

Dated: February 14, 2018.
James F. Manning,
Acting Chief Operating Officer Federal Student Aid.

[FR Doc. 2018-03424 Filed 2-16-18; 8:45 am]

BILLING CODE 4000-01-P